DEPARTMENT OF HEALTH AND HUMAN SERVICES

Centers for Disease Control and Prevention

[30 Day-07-05CO]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

The Centers for Disease Control and Prevention's Consumer Response Services Center (CDC-INFO) Evaluation-New-National Center for Health Marketing (NCHM), Centers for Disease Control and Prevention (CDC).

Background and Brief Description

CDC is launching an integrated “one face to the public” approach across all communication channels to handle inquiries concerning a broad spectrum of public health topics. The overall objective is to ensure consistent, timely, reliable health information for dissemination to a variety of consumers (public, health professionals, researchers, etc.) and to address variations in inquiry volumes related to public health emergencies, news events, and dynamic, shifting public health priorities. The CDC has integrated over 40 hotlines into one Consumer Response Services Center CDC-INFO. CDC-INFO has an exceptionally wide scope because content currently divided between over 40 hotlines handling nearly 2,000,000 telephone contacts annually will be consolidated under CDC-INFO. All CDC hotlines were consolidated in one center beginning in February 2005, with all CDC program areas transitioning into CDC-INFO through a phased approach during the next three years. CDC-INFO itself will be operational for at least the next seven years. The primary objectives of the national evaluation are to (1) Proactively evaluate customer interactions and service effectiveness by employing assessment measures and data collection mechanisms to support performance management, gathering insights and understandings for improving service levels, and implementing effective measures to meet customer satisfaction goals; (2) develop an ongoing understanding of customer requirements and satisfaction trends to achieve best of practice quality standards and to provide qualitative assessments, quantitative data, and cost factors to drive improvement and reinforce operational objectives; (3) measure CDC-INFO contractor service performance to assist in determining whether performance incentives have been achieved; and (4) to collect data in order to address public concern and response to emergencies, outbreaks, and media events.

Sample size, respondent burden, and intrusiveness have been minimized to be consistent with national evaluation objectives. Procedures will be employed to safeguard the privacy and confidentiality of participants. Pilot tests assisted in controlling burden and ensuring the user-relevance of questions. The following table shows the estimated annualized burden for data collection. There are no respondent costs other than the amount of time required to respond to the survey.

Estimated Annualized Burden Hours
Data collection instrument | Number of respondents | Responses/ respondent | Average burden per response (in hrs) | Average annual burden hours
Satisfaction survey (callers) | 25,000 | 1 | 3/60 | 1,250
Satisfaction survey (e-mail inquiries) | 330 | 1 | 3/60 | 17
Follow up survey | 3,125 | 1 | 7/60 | 365
Key informant survey | 100 | 1 | 7/60 | 12
Postcard survey for bulk mailing | 950 | 1 | 1/60 | 16
Postcard survey for individual publications | 2,100 | 1 | 1/60 | 35
Web survey for e-mail publication orders | 1,000 | 1 | 1/60 | 17
Web survey for internet publications | 950 | 1 | 1/60 | 16
Special event/Outreach survey—General Public | 25,600 | 1 | 5/60 | 2,133
Special event/Outreach survey—Professionals | 10,400 | 1 | 5/60 | 867
Emergency response survey—Level 1 emergency—General Public | 31,151 | 1 | 5/60 | 2596
Emergency response survey—Level 1 emergency—Professionals | 7,459 | 1 | 5/60 | 622
Emergency response survey—Level 2 emergency—General Public | 57,579 | 1 | 5/60 | 4798
Emergency response survey—Level 2 emergency—Professionals | 51,821 | 1 | 5/60 | 4318
Emergency response survey—Level 3 emergency—General Public | 351,863 | 1 | 5/60 | 29,322
Emergency response survey—Level 3 emergency—Professional | 316,678 | 1 | 5/60 | 26,390
Emergency response survey—Level 4 emergency—General Public | 645,630 | 1 | 5/60 | 53,803
Emergency response survey—Level 4 emergency—Professional | 596,504 | 1 | 5/60 | 49,709
Total Burden Hours |  |  |  | 176,286

Dated: February 6, 2007.
Joan F. Karr,
Acting Reports Clearance Officer, Centers for Disease Control and Prevention.

[FR Doc. E7-2637 Filed 2-14-07; 8:45 am]

BILLING CODE 4163-18-P